DEPARTMENT OF COMMERCE

International Trade Administration

Initiation of Antidumping and Countervailing Duty Administrative Reviews and Requests for Revocation in Part

AGENCY: Import Administration, International Trade Administration, Department of Commerce.

ACTION: Notice of initiation of antidumping and countervailing duty administrative reviews and requests for revocation in part.

SUMMARY: The Department of Commerce (the Department) has received requests to conduct administrative reviews of various antidumping and countervailing duty orders and findings with September anniversary dates. In accordance with the Department's regulations, we are initiating those administrative reviews. The Department also received requests to revoke one antidumping duty order in part.

EFFECTIVE DATE: October 26, 2001.

FOR FURTHER INFORMATION CONTACT: Holly A. Kuga, Office of AD/CVD Enforcement, Import Administration, International Trade Administration, U.S. Department of Commerce, 14th Street and Constitution Avenue, NW., Washington, DC 20230, telephone: (202) 482-4737.

SUPPLEMENTARY INFORMATION:

Background

The Department has received timely requests, in accordance with 19 CFR 351.213(b)(2000), for administrative reviews of various antidumping and countervailing duty orders and findings with September anniversary dates. The Department also received timely requests to revoke in part the antidumping duty order on Large Newspaper Printing Presses and Components Thereof from Germany .

Initiation of Reviews

In accordance with sections 19 CFR 351.221(c)(1)(i), we are initiating administrative reviews of the following antidumping and countervailing duty orders and findings. We intend to issue the final results of these reviews not later than September 30, 2002.

| Period to be reviewed
Antidumping Duty Proceedings
Germany:
Large Newspaper Printing Presses and Components Thereof, Whether Assembled or Unassembled, A-428-821 | 9/1/00-8/31/01
Koenig & Bauer Albert,AG
MAN Roland Druckmaschinen AG
Japan:
Large Newspaper Printing Pressess and Components Thereof, Whether Assembled or Unassembled, A-588-837 | 9/1/00-8/31/01
Mitsubishi Heavy Industries, Ltd.
Tokyo Kikai Seisakusho, Ltd.
Mexico:
Certain Cut-to-Length Carbon Steel Plate, ¹ A-201-809 | 8/1/00—7/31/01
Altos Hornos de Mexico, S.A. de C.V.
Sweden:
Stainless Steel Wire Rod, A-401-806 | 9/1/00—8/31/01
Fagersta Stainless AB
Taiwan:
Stainless Steel Wire Rod, A-583-828 | 9/1/00—8/31/01
Walsin Lihwa Corporation
The People's Republic of China:
Freshwater Crawfish Tail Meat, ² A-570-848 | 9/1/00—8/31/01
China Everbright.
China Kingdom Import & Export Co., Ltd., aka China Kingdoma Import & Export Co., Ltd., aka Zhongda Import & Export Co., Ltd.
Coastal (Jiang Su) Foods Co., Ltd.
Fujian Pelagic Fishery Group Co.
Hefei Zhongbao Aquatic Co., Ltd.
Huaiyin Foreign Trade Corporation (5), aka Jiangsu Hilong International Trading
Huaiyin Foreign Trade Corporation (30)
Jiangsu Cereals, Oils, & Foodstuffs Import & Export Corp.
Nantong Delu Aquatic Food Co., Ltd.
Nantong Shengfa Frozen Food Co., Ltd.
Ningbo Nanlian Frozen Foods Co., Ltd.
North Supreme Seafood (Zhejiang) Co., Ltd.
Qingdao Rirong Foodstuff Co., Ltd., aka Qingdao Rirong Foodstuffs.
Qingdao Zhengri Seafood Co., Ltd., aka Qingdao Zhengri Seafoods.
Rizhao Riyuan Marine and Food Products Co., Ltd.
Shanghai Toaen International Trading Co., Ltd.
Shantou SEZ Yangfeng Marine Products Co.
Shouzhou Huaxiang Foodstuffs Co., Ltd.
Suqian Foreign Trade Corp., aka Suqian Foreign Trading
Taizhou Tianhe Aquatic Products Co., Ltd.
Weishan Fukang Foodstuffs Co., Ltd.
Yancheng Baolong Biochemical Products Co., Ltd.
Yancheng Foreign Trade Corp., aka Yancheng Foreign Trading, aka Yang Chen Foreign Trading.
Yancheng Haiteng Aquatic Products & Foods Co., Ltd.
Yancheng Yaou Seafoods.
Yangzhou Lakebest Foods Co., Ltd.
Yixing Ban Chang Foods Co.
Countervailing Duty Proceedings
Italy:
Stainless Steel Wire Rod, C-475-821 | 1/1/00—12/31/00
Acciaierie Valbruna S.p.A.
Suspension Agreements
None.
¹ Case inadvertently omitted from previous initiation notice.
² If one of the above named companies does not qualify for a separate rate, all other exporters of freshwater crawfish tail meat from the People's Republic of China who have not qualified for a separate rate are deemed to be covered by this review as part of the single PRC entity of which the named exporters are a part.

During any administrative review covering all or part of a period falling between the first and second or third and fourth anniversary of the publication of an antidumping duty order under section 351.211 or a determination under section 351.218(f)(4) to continue an order or suspended investigation (after sunset review), the Secretary, if requested by a domestic interested party within 30 days of the date of publication of the notice of initiation of the review, will determine whether antidumping duties have been absorbed by an exporter or producer subject to the review if the subject merchandise is sold in the United States through an importer that is affiliated with such exporter or producer. The request must include the name(s) of the exporter or producer for which the inquiry is requested.

Interested parties must submit applications for disclosure under administrative protective orders in accordance with 19 CFR 351.305.

These initiations and this notice are in accordance with section 751(a) of the Tariff Act of 1930, as amended (19 USC 1675(a)) and 19 CFR 351.221(c)(1)(i).

Dated: October 23, 2001.
Holly A. Kuga,
Senior Office Director, Group II, Office 4, AD/CVD Enforcement.

[FR Doc. 01-27058 Filed 10-25-01; 8:45 am]

BILLING CODE 3510-DS-P